DEPARTMENT OF COMMERCE

Foreign-Trade Zones Board

[Order No. 1780]

Reorganization of Foreign-Trade Zone 41 Under Alternative Site Framework Milwaukee, WI

Pursuant to its authority under the Foreign-Trade Zones Act of June 18, 1934, as amended (19 U.S.C. 81a-81u), the Foreign-Trade Zones Board (the Board) adopts the following Order:

Whereas, the Board adopted the alternative site framework (ASF) (74 FR 1170, 01/12/09; correction 74 FR 3987, 01/22/09; 75 FR 71069-71070, 11/22/10) as an option for the establishment or reorganization of general-purpose zones;

Whereas, the Port of Milwaukee, grantee of Foreign-Trade Zone 41, has an application before the Board (FTZ Docket 23-2011, filed 3/21/2011) for authority to reorganize under the ASF with a service area of Kenosha, Milwaukee and Racine Counties, Wisconsin, in and adjacent to the Milwaukee Customs and Border Protection port of entry, FTZ 41's existing Sites 2-4 would be categorized as magnet sites, existing Sites 1 and 5 would be categorized as usage-driven sites and the application also proposes four additional usage-driven sites (Sites 6-9);

Whereas, notice inviting public comment was given in the Federal Register (76 FR 16726-16727, 3/25/2011) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize FTZ 41 under the alternative site framework is approved, subject to the FTZ Act and the Board's regulations, including Section 400.28, to the Board's standard 2,000-acre activation limit for the overall general-purpose zone project, to a five-year ASF sunset provision for magnet sites that would terminate authority for Sites 2 and 4 if not activated by August 31, 2016, and to a three-year ASF sunset provision for usage-driven sites that would terminate authority for Sites 1 and 5-9 if no foreign-status merchandise is admitted for a bona fide customs purpose by August 31, 2014.

Signed at Washington, DC, this 31st day of August 2011.
Ronald K. Lorentzen,
Deputy Assistant Secretary for Import Administration, Alternate Chairman, Foreign-Trade Zones Board.
ATTEST:
Andrew McGilvray,
Executive Secretary.

[FR Doc. 2011-24119 Filed 9-19-11; 8:45 am]

BILLING CODE P